DEPARTMENT OF HOMELAND SECURITY

Coast Guard

33 CFR Part 110

[Docket Number USCG-2016-0916]

RIN 1625-AA01

Anchorages; Captain of the Port Puget Sound Zone, WA

AGENCY: Coast Guard, DHS.

ACTION: Notification of intent to withdraw proposed rule; request for comments.

SUMMARY: The Coast Guard intends to withdraw the proposed anchorage rule entitled “Anchorages; Captain of the Port Puget Sound Zone, WA” that we published on February 10, 2017. The Coast Guard does not currently plan to pursue this rulemaking and consequently does not intend to schedule tribal consultation on the proposed rule. Given the Coast Guard's intent to withdraw, in this request for comment, the Coast Guard is asking if withdrawal is appropriate and if tribal consultation specific to this rulemaking is still appropriate.

DATES: Your comments and related material must reach the Coast Guard on or before January 16, 2018.

ADDRESSES: You may submit comments identified by docket number USCG-2016-0916 using the Federal portal at http://www.regulations.gov. See the “Public Participation and Request for Comments” portion of the SUPPLEMENTARY INFORMATION section for further instructions on submitting comments.

FOR FURTHER INFORMATION CONTACT: If you have questions about this notification of intent, call or email LCDR Christina Sullivan, U.S. Coast Guard Sector Puget Sound; telephone 206-217-6042, email SectorPugetSoundWWM@uscg.mil.

SUPPLEMENTARY INFORMATION:

I. Table of Abbreviations

FR Federal Register

NPRM Notice of Proposed Rulemaking

II. Background and Purpose

We published a notice of proposed rulemaking (NPRM) in the Federal Register on February 10, 2017 (82 FR 10313), entitled “Anchorages; Captain of the Port Puget Sound Zone, WA.” In the NPRM, we proposed the creation of several new anchorages, holding areas, and a non-anchorage area as well as the expansion of one existing general anchorage in the Puget Sound area, as detailed in the proposed regulatory text. The Coast Guard received input from a number of tribes expressing concern about the current rulemaking and based on that input, we intend to withdraw the proposed anchorage rule.

Four months after publishing the NPRM, the Coast Guard provided notice of its intent to conduct a government to government consultation with the tribes on the proposed rulemaking. In that published notification of tribal consultation (82 FR 25207, June 1, 2017), the Coast Guard stated that it would post a written summary of the government to government tribal consultation to the docket, and that members of the public would have time to submit further comments between the posting of the summary of the tribal consultation and the closing of the comment period. The tribal consultation was postponed at the request of the participants, and has not been rescheduled.

Because the Coast Guard published a notice of formal tribal government to government consultation on this proposed rule, the Coast Guard wants to ensure that tribal governments have an opportunity to indicate whether they believe tribal consultation is necessary in light of our intent to withdraw the proposed rule. Tribal governments that believe consultation on this proposed rule is necessary should comment in the docket, and may also contact the person in the FOR FURTHER INFORMATION CONTACT section of this preamble.

Canceling tribal consultation on this specific proposed rule does not prevent other consultation from occurring. The Coast Guard supports a separate government to government consultation with the tribes regarding tribal treaty rights and broader issues of waterways usage outside of the rulemaking process. Accordingly, the Coast Guard will conduct outreach regarding the scope of a potential separate government to government consultation independently of this notification of intent and request for comment.

If the Coast Guard decides to withdraw the proposed rule, we will issue a notification of withdrawal.

III. Information Requested

We are requesting comment from interested persons, particularly from tribal officials, tribal governments, tribal organizations, and tribal members on whether withdrawal is appropriate, and whether a government to government consultation on this anchorages rulemaking is desired in light of the Coast Guard's intent to withdraw from the rulemaking. Because the Coast Guard intends to withdraw from this rulemaking, the Coast Guard believes that tribal government to government consultation on this proposed anchorages rulemaking is no longer necessary.

IV. Public Participation and Request for Comments

We encourage you to submit comments through the Federal portal at http://www.regulations.gov. If your material cannot be submitted using http://www.regulations.gov, contact the person in the FOR FURTHER INFORMATION CONTACT section of this document for alternate instructions. In your submission, please include the docket number for this notification of intent and provide a reason for each suggestion or recommendation.

We accept anonymous comments. All comments received will be posted without change to http://www.regulations.gov and will include any personal information you have provided. For more about privacy and the docket, visit http://www.regulations.gov/privacyNotice.

Documents mentioned in this notification of intent as being available in the docket, and all public comments, will be in our online docket at http://www.regulations.gov and can be viewed by following that Web site's instructions.

This document is issued under authority of 5 U.S.C. 552(a).

Dated: November 9, 2017.
David G. Throop,
Rear Admiral, U.S. Coast Guard, Commander, Thirteenth Coast Guard District.

[FR Doc. 2017-24942 Filed 11-16-17; 8:45 am]

BILLING CODE 9110-04-P